DEPARTMENT OF AGRICULTURE

Animal and Plant Health Inspection Service

[Docket No. APHIS-2006-0109]

International Sanitary and Phytosanitary Standard-Setting Activities

AGENCY: Animal and Plant Health Inspection Service, USDA.

ACTION: Notice and request for comments.

SUMMARY: In accordance with legislation implementing the results of the Uruguay Round of negotiations under the General Agreement on Tariffs and Trade, we are informing the public of international standard-setting activities of the World Organization for Animal Health, the Secretariat of the International Plant Protection Convention, and the North American Plant Protection Organization, and we are soliciting public comment on the standards to be considered.

ADDRESSES: You may submit comments by either of the following methods:

• Federal eRulemaking Portal: Go to http://www.regulations.gov, select “Animal and Plant Health Inspection Service” from the agency drop-down menu, then click “Submit.” In the Docket ID column, select APHIS-2006-0109 to submit or view public comments and to view supporting and related materials available electronically. Information on using Regulations.gov, including instructions for accessing documents, submitting comments, and viewing the docket after the close of the comment period, is available through the site's “User Tips” link.

• Postal Mail/Commercial Delivery: Please send four copies of your comment (an original and three copies) to Docket No. APHIS-2006-0109, Regulatory Analysis and Development, PPD, APHIS, Station 3C71, 4700 River Road Unit 118, Riverdale, MD 20737-1238. Please state that your comment refers to Docket No. APHIS-2006-0109.

Reading Room: You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: For general information on the topics covered in this notice, contact Mr. John Greifer, Director, SPS Management Team, International Services, APHIS, room 1132, South Building, 14th Street and Independence Avenue, SW., Washington, DC 20250; (202) 720-7677.

For specific information regarding standard-setting activities of the World Organization for Animal Health, contact Dr. Michael David, Director, Sanitary International Standards Team, National Center for Import and Export, VS, APHIS, 4700 River Road Unit 33, Riverdale, MD 20737-1231; (301) 734-5324.

For specific information regarding the standard-setting activities of the International Plant Protection Convention or the North American Plant Protection Organization, contact Ms. Julie E. Aliaga, Program Director, International Phytosanitary Standards, PPQ, APHIS, 4700 River Road, Riverdale, MD 20737-1236; (301) 734-0763.

SUPPLEMENTARY INFORMATION:

Background

The World Trade Organization (WTO) was established as the common international institutional framework for governing trade relations among its members in matters related to the Uruguay Round Agreements. The WTO is the successor organization to the General Agreement on Tariffs and Trade. U.S. membership in the WTO was approved by Congress when it enacted the Uruguay Round Agreements Act (Pub. L. 103-465), which was signed into law by the President on December 8, 1994. The WTO Agreements, which established the WTO, entered into force with respect to the United States on January 1, 1995. The Uruguay Round Agreements Act amended title IV of the Trade Agreements Act of 1979 (19 U.S.C. 2531 et seq.). Section 491 of the Trade Agreements Act of 1979, as amended (19 U.S.C. 2578), requires the President to designate an agency to be responsible for informing the public of the sanitary and phytosanitary (SPS) standard-setting activities of each international standard-setting organization. The designated agency must inform the public by publishing an annual notice in the Federal Register that provides the following information: (1) The SPS standards under consideration or planned for consideration by the international standard-setting organization; and (2) for each SPS standard specified, a description of the consideration or planned consideration of that standard, a statement of whether the United States is participating or plans to participate in the consideration of that standard, the agenda for U.S. participation, if any, and the agency responsible for representing the United States with respect to that standard.

“International Standard” is defined in 19 U.S.C. 2578b as any standard, guideline, or recommendation: (1) Adopted by the Codex Alimentarius Commission (Codex) regarding food safety; (2) developed under the auspices of the World Organization for Animal Health (OIE, formerly known as the Office International des Epizooties) regarding animal health and zoonoses; (3) developed under the auspices of the Secretariat of the International Plant Protection Convention (IPPC) in cooperation with the North American Plant Protection Organization (NAPPO) regarding plant health; or (4) established by or developed under any other international organization agreed to by the member countries of the North American Free Trade Agreement (NAFTA) or the member countries of the WTO.

The President, pursuant to Proclamation No. 6780 of March 23, 1995 (60 FR 15845), designated the Secretary of Agriculture as the official responsible for informing the public of the SPS standard-setting activities of Codex, OIE, IPPC, and NAPPO. The United States Department of Agriculture's (USDA's) Food Safety and Inspection Service (FSIS) informs the public of Codex standard-setting activities, and USDA's Animal and Plant Health Inspection Service (APHIS) informs the public of OIE, IPPC, and NAPPO standard-setting activities.

FSIS publishes an annual notice in the Federal Register to inform the public of SPS standard-setting activities for Codex. Codex was created in 1962 by two United Nations organizations, the Food and Agriculture Organization (FAO) and the World Health Organization. It is the major international organization for encouraging international trade in food and protecting the health and economic interests of consumers.

APHIS is responsible for publishing an annual notice of OIE, IPPC, and NAPPO activities related to international standards for plant and animal health and representing the United States with respect to these standards. Following are descriptions of the OIE, IPPC, and NAPPO organizations and the standard-setting agenda for each of these organizations. We have described the agenda that each of these organizations will address at their annual general sessions, including standards that may be presented for adoption or consideration, as well as other initiatives that may be underway at the OIE, IPPC, and NAPPO.

The agendas for these meetings are subject to change, and the draft standards identified in this notice may not be sufficiently developed and ready for adoption as indicated. Also, while it is the intent of the United States to support adoption of international standards and to participate actively and fully in their development, it should be recognized that the U.S. position on a specific draft standard will depend on the acceptability of the final draft. Given the dynamic and interactive nature of the standard-setting process, we encourage any persons who are interested in the most current details about a specific draft standard or the U.S. position on a particular standard-setting issue, or in providing comments on a specific standard that may be under development, to contact APHIS. Contact information is provided at the beginning of this notice under FOR FURTHER INFORMATION CONTACT.

OIE Standard-Setting Activities

The OIE was established in Paris, France, in 1924 with the signing of an international agreement by 28 countries. It is currently composed of 167 member nations, each of which is represented by a delegate who, in most cases, is the chief veterinary officer of that country. The WTO has recognized the OIE as the international forum for setting animal health standards, reporting global animal disease events, and presenting guidelines and recommendations on sanitary measures relating to animal health.

The OIE facilitates intergovernmental cooperation to prevent the spread of contagious diseases in animals by sharing scientific research among its members. The major functions of the OIE are to collect and disseminate information on the distribution and occurrence of animal diseases and to ensure that science-based standards govern international trade in animals and animal products. The OIE aims to achieve these through the development and revision of international standards for diagnostic tests, vaccines, and the safe international trade of animals and animal products.

The OIE provides annual reports on the global distribution of animal diseases, recognizes the free status of member countries for certain diseases, categorizes animal diseases with respect to their international significance, publishes bulletins on global disease status, and provides animal disease control guidelines to member countries. Various OIE commissions and working groups undertake the development and preparation of draft standards, which are then circulated to member countries for consultation (review and comment). Draft standards are revised accordingly and are then presented to the OIE International Committee (all the Member countries) during the General Session, which meets annually every May, for review and adoption. Adoption, as a general rule, is based on consensus of the OIE membership.

The next OIE General Session is scheduled for May 20-27, 2007, in Paris, France. Currently, the Administrator of APHIS is the official U.S. Delegate to the OIE. The Administrator of APHIS intends to participate in the proceedings and will discuss or comment on APHIS' position on any standard up for adoption. Information about OIE draft Terrestrial Animal Health Code and Aquatic Animal Health Code chapters may be found on the Internet at http://www.aphis.usda.gov/vs/ncie/oie/ or by contacting Dr. Michael David (see FOR FURTHER INFORMATION CONTACT above).

OIE Terrestrial Animal Health Code Chapters and Appendices Adopted

1. Chapter 2.7.12, Avian Influenza, and Appendix 3.9.8, Avian Influenza Surveillance

Although few changes were made to the Terrestrial Animal Code Chapter on avian influenza in May 2006, those changes were nevertheless important. The significant changes include a clarification of the definition of “poultry” to ensure that it includes all “domesticated” birds and making it very clear that any detection of highly pathogenic avian influenza needs to be immediately reported to OIE.

2. Appendix 3.6.5, Avian Influenza Virus Inactivation Guidelines

These are new guidelines that provide time and temperature parameters for the inactivation of highly pathogenic avian influenza.

3. Chapter 2.2.10, Foot and Mouth Disease (FMD)

Language on compartmentalization was removed from this chapter because the Code Commission indicated that in the case of the FMD virus—a highly contagious agent that affects many species—applying the concept of compartmentalization would be difficult.

4. Chapter 2.5.4, Equine Infections Anemia; Chapter 2.5.6, Equine Piroplasmosis; Chapter 2.5.7, Equine Rhinopneumonitis

These chapters were updated slightly to clarify existing language.

5. Chapter 1.3.5, Zoning and Compartmentalization

This chapter was adopted in 2005 and no significant changes were made in 2006. However, to help explain the concept of compartmentalization, for 2007 the OIE will develop a practical guide on compartmentalization, using avian influenza as an example.

6. Chapter 2.3.13, Bovine Spongiform Encephalopathy (BSE)

This chapter and the associated surveillance appendix continue to be modified as new information becomes available. For 2006, updates include the following: Removal of references to transmissible spongiform encephalopathies other than BSE; using the date of birth of an infected animal, rather than the date of report, as one of the criteria for determining risk classification; removing the requirement to follow up with the progeny of female cases; and allowing for acid demineralization for the manufacture of gelatin.

7. Chapter 1.3.4, Guidelines for the Evaluation of Veterinary Services

These guidelines now refer to the “Performance, Visions and Strategy (PVS)” instrument. The PVS instrument is a tool that can help a country's veterinary services assess its weaknesses and strengths in various key areas, and brings in the participation of the private sector to help with these assessments.

OIE Terrestrial Animal Health Code Chapters Up for Adoption

Existing Terrestrial Animal Health Code chapters that may be revised and new chapters that may be drafted in preparation for the next General Session in 2007 include the following:

1. Chapter 2.5.10, Equine Viral Arteritis

This activity represents an ongoing complete redrafting of a current OIE Code chapter that has been determined to be outdated.

2. Chapter 2.5.14, African Horse Sickness

This activity represents an ongoing complete redrafting of a current OIE Code chapter that has been determined to be outdated.

3. Chapter 2.5.8, Glanders

This activity represents an ongoing complete redrafting of a current OIE Code chapter that has been determined to be outdated.

4. Chapter 2.3.1, Bovine Brucellosis

This activity would represent a complete redrafting of a current OIE Code chapter that has been determined to be outdated.

5. Appendix 3.8.5, Factors to Consider in Conducting a BSE Risk Assessment

These guidelines for consideration are proposed to ensure that Member countries consider all the known factors associated with the risk of BSE, and are consistent with existing language contained in the BSE Code Chapter.

6. Chapter 2.5.5, Equine Influenza

This activity would represent a complete redrafting of a current OIE Code chapter that has been determined to be outdated.

7. Guidelines for Animal Identification and Traceability

This activity would represent a new appendix that provides some general principles on animal identification and traceability.

8. Chapter 1.4.5, International Transfer of Animal Pathogens

This activity would represent a complete redrafting of a current OIE Code chapter that has been determined to be outdated.

Code Commission Future Work Program

During the next few years, the OIE Code Commission is expected to address the following issues or establish ad hoc groups of experts to update and/or develop standards for the following issues:

1. Companion Animal Welfare

This would be a new chapter intended to provide guidelines for the control of stray dogs in urban settings.

2. Wildlife and Zoo Animal Welfare

This would be a new chapter intended to provide guidelines on the harvesting or culling of zoological and wildlife animals.

3. Laboratory Animal Welfare

This would be a new chapter intended to provide guidelines for the housing of laboratory animals, the use of animals in regulatory testing, and alternatives to animal use.

4. Terrestrial Animal Welfare

This would be a new chapter that would provide general guidelines for the housing and production of livestock and poultry. The intent is to develop first a generic chapter on housing and husbandry principles for livestock and poultry.

OIE Aquatic Animal Health Code Chapters and Appendices up for Adoption

Existing Aquatic Animal Health Code chapters that may be revised and new chapters that have been drafted in preparation for the 2007 General Session include the following:

1. Chapter 4.1.1, Taura Syndrome

A revision of this chapter has been drafted and will be voted on at the 2007 General Session. The revisions were made to be consistent with the new fish and mollusk disease chapters that were adopted in 2005, which in turn were modeled after the Terrestrial Animal Health Code. Significant changes include a section on safe commodities and updated standards on declaration of freedom.

2. Chapter 4.1.2, White Spot Disease

A revision of this chapter has been drafted and will be voted on at the 2007 General Session. The draft revisions were made to be consistent with the new fish and mollusk disease chapters that were adopted in 2005, which in turn were modeled after the Terrestrial Animal Health Code. Significant changes include a section on safe commodities and updated standards on declaration of freedom.

3. Chapter 4.1.3, Yellowhead Disease

A revision of this chapter has been drafted and will be voted on at the 2007 General Session. The draft revisions were made to be consistent with the new fish and mollusk disease chapters that were adopted in 2005, which in turn were modeled after the Terrestrial Animal Health Code. Significant changes include a section on safe commodities and updated standards on declaration of freedom.

4. Chapter 4.1.4, Tetrahedral Baculovirosis

This chapter has been completely rewritten and is essentially new, and will be voted on at the 2007 General Session. It would provide guidelines related to this disease for the importation and surveillance of live susceptible animals and products.

5. Chapter 4.1.7, Crayfish Plaque

This chapter has been completely rewritten and is essentially new, and will be voted on at the 2007 General Session. It would provide guidelines related to this disease for the importation and surveillance of live susceptible animals and products.

6. Chapter 4.1.10, Necrotizing Hepatopancreatitis

This chapter has been completely rewritten and is essentially new, and will be voted on at the 2007 General Session. It would provide guidelines related to this disease for the importation and surveillance of live susceptible animals and products.

7. Guidelines for the Transport of Fish by Boat and Land

These chapters will be voted on at the 2007 General Session. They would establish new standards for moving farmed fish to slaughter by either water or land transport systems. The chapters propose guidelines that would be implemented for the personnel and equipment involved in moving fish under these conditions, based on considerations for fish welfare as developed under other chapters.

8. Guidelines for the Humane Killing of Fish for Disease Control and Slaughter of Farmed Fish for Human Consumption

These chapters will be voted on at the 2007 General Session. They would establish new standards for farmed fish that are slaughtered for various purposes, such as disease control or consumption. The chapters propose guidelines that would be implemented for the personnel, equipment and processing plants involved in moving fish under different circumstances, based on considerations for fish welfare as developed under other chapters.

9. Introduction to the OIE guidelines for the Welfare of Aquatic Animals

This section will be voted on at the 2007 General Session. It would establish definitions for terms associated with farmed fish welfare based on a number of criteria, including sentience, pain perception, consciousness, and other parameters. The chapter also attempts to set standards for the personnel who deal with farmed fish.

Aquatic Animal Commission Future Work Program

During the next few years, the OIE Aquatic Animal Commission is expected to address the following issues or establish ad hoc groups of experts to update and/or develop standards for the following issues:

1. Diseases of Amphibians

This would be a new chapter intended to provide guidelines with regard to diseases of amphibians.

2. Aquatic Animal Feed

An ad hoc group will be established to determine the risk of transmission of aquatic animal diseases through animal feed.

The Process

The OIE Code chapters are drafted (or revised) by either the Code Commission or by ad hoc groups composed of technical experts nominated by the Director General of the OIE by virtue of their subject-area expertise. Once a new chapter is drafted or an existing one is revised, the chapter is distributed to member countries for review and comment. The OIE attempts to provide proposed chapters by late October to allow member countries sufficient time for comment. Comments are due by early February of the following year. The draft standard is revised by the OIE Code Commission on the basis of relevant scientific comments received from member countries.

The United States (i.e., USDA/APHIS) intends to review and, where appropriate, comment on all draft chapters and revisions once it receives them from the OIE. USDA/APHIS intends to distribute these drafts to the U.S. livestock and aquaculture industries, veterinary experts in various U.S. academic institutions, and other interested persons for review and comment. Additional information regarding these draft standards may be obtained by contacting Dr. Michael David (see FOR FURTHER INFORMATION CONTACT above).

Generally, if a country has concerns with a particular draft standard, and supports those concerns with sound technical information, the pertinent OIE Code Commission will revise that standard accordingly and present the revised draft for adoption at the General Session in May. In the event that a country's concerns regarding a draft standard are not taken into account, that country may refuse to support the standard when it comes up for adoption at the General Session. However, each member country is obligated to review and comment on proposed standards, and make decisions regarding the adoption of those standards, strictly on their scientific merits.

Other OIE Topics

Every year at the General Session, two technical items are presented.

For the May 2007 General Session, the following technical items will be presented:

1. The use of epidemiological models for the management of animal diseases.

2. The role of reference laboratories and collaborating centers in providing permanent support for the objectives and mandates of the OIE.

The information in this notice includes all the information available to us on OIE standards currently under development or consideration. Information on OIE standards is available on the Internet at http://www.oie.int. Further, a formal agenda for the next General Session should be available to member countries by March 2007, and copies will be available to the public once the agenda is published. For the most current information on meeting times, working groups, and/or meeting agendas, including information on official U.S. participation in OIE activities and U.S. positions on standards being considered, contact Dr. Michael David (see FOR FURTHER INFORMATION CONTACT above). Those wishing to provide comments on any areas of work under the OIE may do so at any time by responding to this notice (see ADDRESSES above) or by providing comments through Dr. Michael David.

IPPC Standard-Setting Activities

The IPPC is a multilateral convention adopted in 1952 for the purpose of securing common and effective action to prevent the spread and introduction of pests of plants and plant products and to promote appropriate measures for their control. Under the IPPC, the understanding of plant protection has been, and continues to be, broad, encompassing the protection of both cultivated and noncultivated plants from direct or indirect injury by plant pests. Activities addressed by the IPPC include the development and establishment of international plant health standards, the harmonization of phytosanitary activities through emerging standards, the facilitation of the exchange of official and scientific information among countries, and the furnishing of technical assistance to developing countries that are signatories to the IPPC.

The IPPC is under the authority of the FAO, and the members of the Secretariat of the IPPC are appointed by the FAO. The IPPC is implemented by national plant protection organizations in cooperation with regional plant protection organizations, the Commission on Phytosanitary Measures ((CPM); formerly referred to as the International Commission on Phytosanitary Measures (ICPM)), and the Secretariat of the IPPC. The United States plays a major role in all standard-setting activities under the IPPC and has representation on FAO's highest governing body, the FAO Conference.

The United States became a contracting party to the IPPC in 1972 and has been actively involved in furthering the work of the IPPC ever since. The IPPC was amended in 1979, and the amended version entered into force in 1991 after two-thirds of the contracting countries accepted the amendment. More recently, in 1997, contracting parties completed negotiations on further amendments that were approved by the FAO Conference and submitted to the parties for acceptance. This 1997 amendment updated phytosanitary concepts and formalized the standard-setting structure within the IPPC. The 1997 amended version of the IPPC entered into force after two-thirds of the contracting parties notified the Director General of FAO of their acceptance of the amendment. The U.S. Senate gave its advice and consent to acceptance of the newly revised IPPC on October 18, 2000. The President submitted the official letter of acceptance to the FAO Director General on October 4, 2001.

The IPPC has been, and continues to be, administered at the national level by plant quarantine officials whose primary objective is to safeguard plant resources from injurious pests. In the United States, the national plant protection organization is APHIS' Plant Protection and Quarantine (PPQ) program. The steps for developing a standard under the revised IPPC are described below.

Step 1: Proposals for a new international standard for phytosanitary measures (ISPM) or for the review or revision of an existing ISPM are submitted to the Secretariat of the IPPC in a standardized format on a 2-year cycle. Alternatively, the Secretariat can propose a new standard or amendments to existing standards.

Step 2: After review by the Standards Committee and the Strategic Planning and Technical Assistance Working Group, a summary of proposals is submitted by the Secretariat to the CPM. The CPM identifies the topics and priorities for standard setting from among the proposals submitted to the Secretariat and others that may be raised by the CPM.

Step 3: Specifications for the standards identified as priorities by the CPM are drafted by the Secretariat. The draft specifications are submitted to the Standards Committee for approval/amendment and are subsequently made available to members and regional plant protection organizations (RPPOs) for comment (60 days). Comments are submitted in writing to the Secretariat. Taking into account the comments, the Standards Committee finalizes the specifications.

Step 4: The standard is drafted or revised in accordance with the specifications by a working group designated by the Standards Committee. The resulting draft standard is submitted to the Standards Committee for review.

Step 5: Draft standards approved by the Standards Committee are distributed to members by the Secretariat and RPPOs for consultation (100 days). Comments are submitted in writing to the Secretariat. Where appropriate, the Standards Committee may establish open-ended discussion groups as forums for further comment. The Secretariat summarizes the comments and submits them to the Standards Committee.

Step 6: Taking into account the comments, the Secretariat, in cooperation with the Standards Committee, revises the draft standard. The Standards Committee submits the final version to the CPM for adoption.

Step 7: The ISPM is established through formal adoption by the CPM according to Rule X of the Rules of Procedure of the CPM.

Step 8: Review of the ISPM is completed by the specified date or such other date as may be agreed upon by the CPM.

Each member country is represented on the CPM by a single delegate. Although experts and advisers may accompany the delegate to meetings of the CPM, only the delegate (or an authorized alternate) may represent each member country in considering a standard up for approval. Parties involved in a vote by the CPM are to make every effort to reach agreement on all matters by consensus. Only after all efforts to reach a consensus have been exhausted may a decision on a standard be passed by a vote of two-thirds of delegates present and voting.

Technical experts from the United States have participated directly in working groups and indirectly as reviewers of all IPPC draft standards. The United States also has a representative on the Standards Committee. In addition, documents and positions developed by APHIS and NAPPO have been sources of significant input for many of the standards adopted to date. This notice describes each of the IPPC standards currently under consideration or up for adoption. The full text of each standard will be available on the Internet at http://www.aphis.gov/ppq/pim/standards/. Interested individuals may review the standards posted on this Web site and submit comments via the Web site.

The next CPM meeting is scheduled for March 26-30, 2007, at FAO Headquarters in Rome, Italy. The Deputy Administrator for APHIS' PPQ program is the U.S. delegate to the CPM. The Deputy Administrator intends to participate in the proceedings and will discuss or comment on APHIS' position on any standards up for adoption. The provisional agenda for the Second Session of the Interim Commission on Phytosanitary Measures is as follows:

1. Opening of the session.

2. Adoption of the agenda.

3. Report by the chairperson.

4. Report by the Secretariat.

5. Standards up for adoption in 2007.

6. Items arising from the First Session of the CPM (see section below entitled “New Standard-Setting Initiatives, Including Those in Development” for details).

7. Work program for harmonization.

8. Other business.

9. Date and venue of the next meeting.

10. Adoption of the report.

IPPC Standards Up for Adoption in 2007

It is expected that the following standards will be sufficiently developed to be considered by the CPM for adoption at its 2007 meeting. The United States, represented by APHIS' Deputy Administrator for PPQ, will participate in the consideration of these standards. The U.S. position on each of these issues will be developed prior to the CPM session and will be based on APHIS' analysis, information from other U.S. Government agencies, and relevant scientific information from interested stakeholders. The standards that are most likely to be considered for adoption include:

1. Revision of ISPM No. 2, Pest Risk Analysis (PRA)

This standard describes the basic concept of pest risk analysis within the framework of the IPPC. It introduces the three stages of pest risk analysis—initiation, pest risk assessment and pest risk management. The initiation stage is described in detail and a summary for the other stages is provided. Referral to other ISPMs is made regarding the pest risk assessment and pest risk management stages. Generic issues of information gathering, documentation, risk communication, uncertainty and consistency are introduced.

The PRA process is initiated in Stage 1 with the identification of an organism, pest or pathway that may require phytosanitary measures, or as part of the review of existing phytosanitary measures. The first step is to determine or confirm whether the organism considered is a pest. The PRA area is defined. If no pests are identified, the analysis need not continue. The analysis of pests identified in Stage 1 continues to Stages 2 and 3 using guidance provided in other standards.

2. Recognition of Pest-Free Areas and Areas of Low Pest Prevalence

This standard provides guidance for the recognition process for pest-free areas (PFA) and areas of low pest prevalence (ALPP). It describes a procedure for the bilateral recognition of such areas. This standard does not include specified time lines for the recognition procedure.

The importing contracting party remains responsible for determining what type of and how much information will be required in order to recognize a PFA or ALPP, depending on the type of area and its geography, the way the pest-free or low pest status of the area has been established, the contracting party's appropriate level of protection, and other factors for which technical justification exists.

3. Phytosanitary Treatments for Regulated Pests

This standard would provide a list of treatments that are internationally recognized and intended for use by National Plant Protection Organizations (NPPOs) to meet their phytosanitary requirements. The treatments provide the minimum requirements to achieve treatment of a regulated pest at a stated efficacy. The scope of this standard does not include issues related to pesticide registration or other internal requirements for approval of treatment measures (e.g., irradiation).

NPPOs and Regional Plant Protection Organizations (RPPOs) submit a treatment for inclusion in the ISPM on Phytosanitary Treatments by providing information on the treatment, pest(s) and commodity(ies) or regulated articles concerned. The submission should include efficacy data on the treatment under laboratory or controlled experimental conditions, and also under operations conditions.

4. Debarked and Bark-Free Wood

This standard provides practical guidance to NPPOs on differentiating wood with bark, debarked wood, and bark-free wood, and how the removal of bark may reduce the risk of introduction and/or spread of quarantine pests associated with wood.

It applies to wood and all products made from wood other than the following: Plywood, particle board, oriented strand board, veneer and other products made from wood that have been created using glue, heat, and pressure, or a combination thereof; sawdust; wood wool; wood shavings; and thin wood 6 mm in thickness or less.

5. Establishment of Area of Low Pest Prevalence for Fruit Flies (Tephritidae)

This standard provides guidelines for the establishment and maintenance of areas of low pest prevalence for fruit flies of economic importance (including places and sites of production of low pest prevalence) for use as a risk mitigation measure to facilitate trade of fruits and vegetables.

The decision to create a fruit fly area of low pest prevalence (FF-ALPP) for export of a particular host of fruit fly is closely linked to trade opportunities and to economic and operational feasibility. Before establishing an FF-ALPP, the target fruit fly species shall be identified. FF-ALPPs are generally delimited by readily recognizable boundaries. Parameters used to determine the level of fruit fly prevalence in the FF-ALPP should be defined. The most widely used parameter is the number of flies per trap per day (FTD). If export from the FF-ALPP is intended, the specified level should be established in conjunction with the importing country.

Before establishment of an FF-ALPP, surveillance aimed at assessing the presence and abundance of the target fruit fly species should be undertaken for a period determined by climatic characteristics of the area and as technically appropriate, but at least for 12 consecutive months. In order to be able to verify the fruit fly low pest prevalence, FF-ALPP status should be continuously checked after the FF-ALPP status has been achieved, or, in the case of faulty procedures, only when those have been rectified.

6. Amendments to ISPM No.5 (Glossary of Phytosanitary Terms)

The following amendments will be proposed to the glossary of phytosanitary terms in ISPM No. 5:

1. The following terms and definitions will be proposed to be added:

• Phytosanitary security: Maintenance of the integrity of a consignment without loss or substitution, and prevention of its infestation, by the appropriate phytosanitary measures.

• Integrity (of a consignment): Composition of a consignment as described by its Phytosanitary Certificate or other document.

2. The following terms and definitions will be proposed to be changed to read as follows:

• Buffer zone: An area surrounding or adjacent to an area officially delimited for phytosanitary purposes, subjected to control measures to minimize the risk of spread of a target pest in or out of the delimited area.

• Compliance procedure (for a consignment): Official procedure used to verify that a consignment complies with phytosanitary import requirements.

• Biological control: Pest control strategy making use of living natural enemies, antagonists, competitors, sterile insects or other biological control agents.

• Reference specimen(s) (of a biological control agent): Individual specimen(s) from a specific population conserved in a reference culture collection and, where possible, in a publicly available collection(s).

New Standard-Setting Initiatives, Including Those in Development

A number of expert working group meetings or other technical consultations will take place during 2006 and 2007 on the topics listed below. These standard-setting initiatives were not completed before April 2006 and, therefore, will not be ready for adoption at the 2007 CPM session. Nonetheless, APHIS intends to participate actively and fully in each of these working groups. The U.S. position on each of the topics to be addressed by these various working groups will be developed prior to these working group meetings and will be based on APHIS' technical analysis, information from other U.S. Government agencies, and relevant scientific information from interested stakeholders.

1. Development of Annex 1 (Specific Approved Treatments) of ISPM No. 18

ISPM No. 18 (Guidelines for the Use of Irradiation as a Phytosanitary Measure) provides technical guidance on the specific procedures for the application of ionizing radiation as a phytosanitary treatment for regulated pests and articles. The standard was adopted in 2003 during the Fifth Session of the ICPM. The scope and purpose of ISPM No. 18 will remain unchanged. However, work done under this specification will initiate the development of irradiation phytosanitary treatments for specific applications that will be used in conjunction with this ISPM.

2. Revisions of ISPMs No. 7 and 12

Currently there are two ISPMs dealing with export: ISPM No. 7 (Export Certification System) and ISPM No. 12 (Guidelines for Phytosanitary Certificates). These also briefly describe the procedure to follow in case of re-export and transit. As international trade has expanded and means of conveyance have diversified, the need has arisen to provide clearer guidance on re-export and transit. In addition, concepts in these standards will be made consistent with other existing standards, such as ISPM No. 25 (Consignments in Transit). Existing ISPMs No. 7 and No. 12 will be reviewed for amendment to provide specific guidance on the procedures, which cover technical, legal, administrative and operational aspects, including export issues related to re-export and consignment in transit.

For more detailed information on the above topics, which will be addressed by various working groups established by the CPM, contact Ms. Julie E. Aliaga (see FOR FURTHER INFORMATION CONTACT above).

APHIS posts draft standards on the Internet (http://www.aphis.usda.gov/ppq/pim/standards/) as they become available and provides information on the due dates for comments. Additional information on IPPC standards is available on the FAO's Web site at http://www.ippc.int/IPP/En/default.htm. For the most current information on official U.S. participation in IPPC activities, including U.S. positions on standards being considered, contact Ms. Julie E. Aliaga (see FOR FURTHER INFORMATION CONTACT above). Those wishing to provide comments on any of the areas of work being undertaken by the IPPC may do so at any time by responding to this notice (see ADDRESSES above) or by providing comments through Ms. Aliaga.

NAPPO Standard-Setting Activities

NAPPO, a regional plant protection organization created in 1976 under the IPPC, coordinates the efforts among Canada, the United States, and Mexico to protect their plant resources from the entry, establishment, and spread of harmful plant pests, while facilitating intra- and inter-regional trade. NAPPO conducts its business through panels and annual meetings held among the three member countries. The NAPPO Executive Committee charges individual panels with the responsibility for drawing up proposals for NAPPO positions, policies, and standards. These panels are made up of representatives from each member country who have scientific expertise related to the policy or standard being considered. Proposals drawn up by the individual panels are circulated for review to Government and industry officials in Canada, Mexico, and the United States, who may suggest revisions. In the United States, draft standards are circulated to industry, States, and various Government agencies for consideration and comment. The draft standards are posted on the Internet at http://www.aphis.usda.gov/ppq/pim/standards/; interested persons may submit comments via that Web site. Once revisions are made, the proposal is sent to the NAPPO working group and the NAPPO standards panel for technical reviews, and then to the Executive Committee for final approval, which is granted by consensus.

The annual NAPPO meeting is scheduled for October 16-20, 2006, in Fort McDowell, Arizona. The NAPPO Executive Committee meeting will take place on October 15, 2006, and a special session will be held on October 16, 2006, to solicit comment from industry groups so that suggestions can be incorporated into the NAPPO work plan for the 2006 NAPPO year. The Deputy Administrator for PPQ is a member of the NAPPO Executive Committee. The Deputy Administrator intends to participate in the proceedings and will discuss or comment on APHIS' position on any standard up for adoption or any proposals to develop new standards.

The work plan for 2006 was established after the October 2005 Annual Meeting in Puerto Vallarta, Mexico. The Deputy Administrator for PPQ participated in establishing this NAPPO work plan (see panel assignments below). Below is a summary of current panel assignments as they relate to the ongoing development of NAPPO standards. The United States (i.e., USDA/APHIS) intends to participate actively and fully in the work of each of these panels. The U.S. position on each topic will be guided and informed by the best scientific information available on each of these topics. For each of the following panels, the United States will consider its position on any draft standard after it reviews a prepared draft. Information regarding the following NAPPO panel topics, assignments, activities, and updates on meeting times and locations may be obtained from the NAPPO homepage at http://www.nappo.org or by contacting Ms. Julie E. Aliaga (see FOR FURTHER INFORMATION CONTACT above).

1. Accreditation Panel

The panel will develop an audit protocol for reviewing compliance with the NAPPO laboratory accreditation standard (RSPM No. 9). It will then use this protocol to audit the programs in the three NAPPO countries starting with the United States. It will review and update the current NAPPO laboratory accreditation standard (RSPM No. 9).

2. Biological Control Panel

This panel will complete the Taxonomic Resources Position Paper, develop guidelines for the movement of commercial shipments of arthropod biological control agents among NAPPO member countries, and exchange information on biological control programs in the NAPPO countries.

3. Biotechnology Panel

This panel will continue to develop a NAPPO standard for the importation of transgenic plants into NAPPO member countries. The standard review of products of biotechnology focuses on the assessment of the potential for the new trait to increase the risk the plant could pose to other plants in agriculture or the broader environment. The final fourth module, importation for uses other than propagation, will be developed.

4. Citrus Panel

The panel will update the pest lists in the Citrus Standard, based on new pest information.

5. Electronic Phytosanitary Certification Panel

This panel will develop guidelines for the electronic transmission of phytosanitary certificates.

6. Forestry Panel

This panel will coordinate the implementation of ISPM 15 (Guidelines for Regulating Wood Packaging Material in International Trade) by NAPPO member countries.

7. Fruit Panel

The panel will coordinate with other appropriate panels to start the development of a standard for the use of genetically modified fruit flies in North America.

8. Grapevine Panel

The panel will provide direction and support to the Technical Advisory Group to include insects and nematodes in the NAPPO standard for grapevines (RSPM No. 15). It will participate in the development of the NAPPO standard on plants for planting.

9. Potato Panel

The panel will develop an appendix to RSPM No. 3 on nematode identification and update appendix 5 based on the latest molecular information for potato virus YN (PVYn).

10. Propagative Material Panel

The panel will complete the standard on plants for planting.

11. Standards Panel

The panel will continue to provide updates on standards for the NAPPO newsletter, coordinate the review of new and amended NAPPO standards and ensure that comments received during the country consultation phase are incorporated as appropriate, organize conference calls and prepare NAPPO discussion documents for possible use at the IPPC, and promote implementation of recently adopted standards.

The PPQ Deputy Administrator, as the official U.S. delegate to NAPPO, intends to participate in the adoption of these regional plant health standards, including the work described above, once they are completed and ready for such consideration.

The information in this notice includes all the information available to us on NAPPO standards currently under development or consideration. For updates on meeting times and for information on the working panels that may become available following publication of this notice, check the NAPPO Web site on the Internet at http://www.nappo.org or contact Ms. Julie E. Aliaga (see FOR FURTHER INFORMATION CONTACT above). Information on official U.S. participation in NAPPO activities, including U.S. positions on standards being considered, may also be obtained from Ms. Aliaga. Those wishing to provide comments on any of the topics being addressed by any of the NAPPO panels may do so at any time by responding to this notice (see ADDRESSES above) or by transmitting comments through Ms. Aliaga.

Done in Washington, DC, this 10th day of October 2006.
Kevin Shea,
Acting Administrator, Animal and Plant Health Inspection Service.

[FR Doc. E6-17025 Filed 10-12-06; 8:45 am]

BILLING CODE 3410-34-P